DEPARTMENT OF AGRICULTURE

Forest Service

Information Collection; Woodsy Owl Official Licensee Royalty Statement

AGENCY: Forest Service, USDA.

ACTION: Notice; request for comment.

SUMMARY: In accordance with the Paperwork Reduction Act of 1995, the Forest Service announces its intention to extend an information collection. The collected information will enable the Forest Service to collect royalty fees for the commercial use of the Woodsy Owl symbol and to assess the effectiveness of licensing the Woodsy Owl symbol for commercial use. Information will be collected from individuals and from for-profit businesses and non-profit organizations.

DATES: Comments must be received in writing on or before August 13, 2004.

ADDRESSES: Comments concerning this notice should be addressed to the Office of Conservation Education, National Symbols Coordinator, Forest Service, USDA, 1400 Independence Avenue, SW., Mail Stop 1147, Washington, DC 20250-0033.

Comments also may be submitted via facsimile to (202) 690-5658 or by e-mail to scummings@fs.fed.us.

The public may inspect comments received at the Office of Conservation Education, Room 1C, Forest Service, USDA, 201 14th Street, SW., Washington, DC. Visitors are urged to call ahead to (202) 205-5681 to facilitate entrance into the building.

FOR FURTHER INFORMATION CONTACT: Iris Velez, Office of Conservation Education, at (202) 205-5681.

SUPPLEMENTARY INFORMATION:

Background

The Woodsy Owl-Smoky Bear Act of 1974 established the Woodsy Owl symbol and slogan, authorized the Forest Service to manage the use of the slogan and symbol, authorized the licensing of the symbol for commercial use, and provided for continued protection of the symbol. The Woodsy Owl symbol may only be used by permission of the Forest Service. Part 272 of title 36 of the Code of Federal Regulations authorizes the Chief of the Forest Service to approve commercial use of the Woodsy Owl symbol and to collect royalty fees. Commercial use includes replicating Woodsy Owl as a plush toy and replicating the Woodsy Owl symbol or logo on items, such as tee shirts, mugs, pins, figurines, ornaments, storybooks, stickers, and toys.

The message to the public inherent with the Woodsy Owl symbol is about caring for the environment. Slogans associated with Woodsy Owl are “Give a Hoot, Don't Pollute” and “Lend a Hand, Care for the Land.” The goal of Woodsy Owl is to inspire children to observe the natural world around them, to teach children ecological principles, and to motivate children to join in specific actions to help care for the environment.

Description of Information Collection

The following describes the information collection to be extended:

Title: Woodsy Owl Official Licensee Royalty Statement.

OMB Number: 0596-0087.

Expiration Date of Approval: March 31, 2004.

Type of Request: Extension.

Abstract: The Forest Service National Symbols Coordinator will evaluate the data to determine if an individual, corporation, or organization, requesting a license to use the Woodsy Owl symbol commercially, should be granted a license or, if currently licensed, to determine the royalty fee the licensed entity must pay to the agency based on a percentage of the licensee's total sales and whether the licensed entity has met its stated objectives.

An individual or corporation may apply for a Woodsy Owl license by contacting Forest Service personnel by telephone, fax, e-mail, or by writing to the address listed in the address section of this notice. In the course of communicating with the potential applicant, the agency will learn how long the individual, corporation, or organization has been in business; the products the individual, corporation or organization sells or plans to sell; the geographical location from which the products will be sold; the projected sales volume; and how the individual, corporation, or organization plans to market the products.

If Forest Service personnel determine that granting a license to the individual, corporation, or organization for the purpose of using the Woodsy Owl symbol for commercial use would be in the best interest of the agency and would promote the Woodsy Owl messages, a license contract would be mailed to the individual, corporation or organization. The contract would have to be completed and returned to the Forest Service. Once the contract has been by signed by an authorized Forest Service employee and by the individual or the corporate or organizational representative, the newly licensed entity will have to submit to the Forest Service the agreed upon advanced guaranteed royalty payment. The individual, corporation, or organization also will submit a quarterly report to the agency, using the Woodsy Owl Licensee Royalty Statement Form, along with any royalty fees garnered from sales that have exceeded the advanced guaranteed royalty payment.

When making the quarterly reports, individuals, corporations, or organizations will be asked to provide information that includes the following: a list of each item that will be sold with the Woodsy Owl symbol; the projected sales of each item; the price at which each item will be sold; the total sales amount subject to the agency royalty fee; the royalty fee due based on sales quantity and price; a description and itemization of any deductions, such as fees waived or previously paid as part of the advance royalty payment which is their sales quantity guarantee; the new total royalty fee the business or organization must pay after deductions; the running total amount of royalties accrued in that fiscal year; and the typed name and signature of the business or organizational employee certifying the truth of the report.

Data gathered in this information collection are not available from other sources.

Estimate of Annual Burden: 30 minutes.

Type of Respondents: For-profit businesses and non-profit organizations currently holding a Woodsy Owl license or applying for such license.

Estimated Annual Number of Respondents: 10.

Estimated Annual Number of Responses per Respondent: 4.

Estimated Total Annual Burden on Respondents: 20 hours.

The agency invites comments on the following: (a) Whether the proposed collection of information is necessary for the stated purposes and the proper performance of the functions of the agency, including whether the information will have practical or scientific utility; (b) the accuracy of the agency's estimate of the burden of the proposed collection of information, including the validity of the methodology and assumptions used; (c) ways to enhance the quality, utility, and clarity of the information to be collected; and (d) ways to minimize the burden of the collection of information on respondents, including the use of automated, electronic, mechanical, or other technological collection techniques or other forms of information technology.

Use of Comments

All comments, including name and address when provided, will become a matter of public record. Comments will be summarized and included in the request for Office of Management and Budget approval.

Dated: June 4, 2004.
Robin L. Thompson,
Associate Deputy Chief, State and Private Forestry.

[FR Doc. 04-13318 Filed 6-10-04; 8:45 am]

BILLING CODE 3410-11-P